DEPARTMENT OF TRANSPORTATION

Federal Aviation Administration

14 CFR Part 97

[Docket No. 30411; Amdt. No. 3095 ]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective May 4, 2004. The compliance date for each SIAP is specified in the amendatory provisions.

The incorporation by reference of certain publications listed in the regulations is approved by the Director of the Federal Register as of May 4, 2004.

ADDRESSES: Availability of matters incorporated by reference in the amendment is as follows:

For Examination—

1. FAA Rules Docket, FAA Headquarters Building, 800 Independence Avenue, SW., Washington, DC 20591;

2. The FAA Regional Office of the region in which the affected airport is located;

3.The Flight Inspection Area Office which originated the SIAP; or,

4. The National Archives and Records Administration (NARA). For information on the availability of this material at NARA, call 202-741-6030, or go to http://www.archives.gov/federal_register/code_of_federal_regulations/ibr_locations.html.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC on April 23, 2004.
James J. Ballough,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

* * * Effective June 10, 2004

Juneau, AK, Juneau Intl, RNAV (GPS) V RWY 8, Orig-A

Fullerton, CA, Fullerton Muni, VOR-A, Amdt 7

Fullerton, CA, Fullerton Muni, LOC RWY 24, Amdt 4

Fullerton, CA, Fullerton Muni, RNAV (GPS) RWY 24, Orig

Fullerton, CA, Fullerton Muni, GPS RWY 24, Orig-A, CANCELLED

Colorado Springs, CO, City of Colorado Springs Muni, ILS OR LOC RWY 17L, Orig-A

Colorado Springs, CO, City of Colorado Springs Muni, RNAV (GPS) RWY 17R, Orig-A

Colorado Springs, CO, City of Colorado Springs Muni, ILS/DME RWY 17L, Orig-C, CANCELLED

Muscatine, IA, Muscatine Muni, ILS OR LOC/DME RWY 24, Orig

Clinton, MD, Washington, Executive/Hyde Field, VOR/DME RWY 5, Orig

Clinton, MD, Washington, Executive/Hyde Field, RNAV (GPS) RWY 5, Orig

Machias, ME, Machias Valley, NDB RWY 36, Amdt 1

Machias, ME, Machias Valley, RNAV (GPS) RWY 36, Orig

Minneapolis, MN, Minneapolis-St Paul Intl/Wold Chamberlain, LOC RWY 22, Orig

Minneapolis, MN, Minneapolis-St Paul Intl/Wold Chamberlain, ILS RWY 22, Amdt 8, CANCELLED

Livingston, MT, Mission Field, VOR-A, Amdt 5B

Livingston, MT, Mission Field, VOR/DME-B, Amdt 1C

Livingston, MT, Mission Field, GPS RWY 22, Orig-A

Charlotte, NC, Charlotte/Douglas Intl, RNAV (GPS) RWY 23, Orig, CANCELLED

Los Alamos, NM, Los Alamos, RNAV (GPS) RWY 27, Orig

Rochester, NY, Greater Rochester Intl, VOR/DME RWY 4, Amdt 2

Rochester, NY, Greater Rochester Intl, NDB RWY 28, Amdt 20D

Rochester, NY, Greater Rochester Intl, ILS OR LOC RWY 4, Amdt 18

Rochester, NY, Greater Rochester Intl, ILS OR LOC RWY 28, Amdt 29

Rochester, NY, Greater Rochester Intl, RNAV (GPS) RWY 4, Orig

Rochester, NY, Greater Rochester Intl, RNAV (GPS) RWY 7, Orig

Rochester, NY, Greater Rochester Intl, RNAV (GPS) RWY 10, Orig

Rochester, NY, Greater Rochester Intl, RNAV (GPS) RWY 25, Orig

Rochester, NY, Greater Rochester Intl, RNAV (GPS) RWY 28, Orig

Rochester, NY, Greater Rochester Intl, GPS RWY 10, Orig-A, CANCELLED

Baker City, OR, Baker City Muni, VOR/DME RWY 13, Amdt 11A

Johnstown, PA, John Murtha, Johnstown-Cambria County, ILS OR LOC RWY 33, Amdt 5A

Lancaster, PA, Lancaster, VOR RWY 8, Amdt 20

Lancaster, PA, Lancaster, VOR RWY 31, Amdt 16

Lancaster, PA, Lancaster, VOR/DME RWY 8, Amdt 5

Lancaster, PA, Lancaster, VOR/DME RWY 26, Amdt 9

Lancaster, PA, Lancaster, ILS OR LOC RWY 8, Amdt 15

Lancaster, PA, Lancaster, RNAV (GPS) RWY 8, Amdt 1

Lancaster, PA, Lancaster, RNAV (GPS) RWY 26, Orig

Lancaster, PA, Lancaster, RNAV (GPS) RWY 31, Orig

Philadelphia, PA, Philadelphia Intl, ILS PRM RWY 26, Amdt 2A (Simultaneous Close Parallel)

Philadelphia, PA, Philadelphia Intl, ILS PRM RWY 27L, Amdt 2A (Simultaneous Close Parallel)

Pittsburgh, PA, Allegheny County, ILS RWY 10, Amdt 5A

Pittsburgh, PA, Allegheny County, RNAV (GPS) Y RWY 10, Orig-A

Pittsburgh, PA, Allegheny County, RNAV (GPS) Z RWY 10, Amdt 2A

Pittsburgh, PA, Pittsburgh Intl, ILS RWY 10L, Amdt 25A

Pittsburgh, PA, Pittsburgh Intl, ILS RWY 10R, Amdt 10A

Pittsburgh, PA, Pittsburgh Intl, ILS RWY 28L, Amdt 8A

Pittsburgh, PA, Pittsburgh Intl, ILS RWY 28R, Amdt 8A

Pittsburgh, PA, Pittsburgh Intl, ILS RWY 32, Amdt 11A

Pittsburgh, PA, Pittsburgh Intl, Converging ILS RWY 28R, Amdt 3A

Pittsburgh, PA, Pittsburgh Intl, Converging ILS RWY 32, Amdt 4A

Pittsburgh, PA, Pittsburgh Intl, RNAV (GPS) RWY 10L, Amdt 2A

Pittsburgh, PA, Pittsburgh Intl, RNAV (GPS) RWY 10R, Amdt 2A

Pittsburgh, PA, Pittsburgh Intl, RNAV (GPS) RWY 28R, Amdt 2A

Pittsburgh, PA, Pittsburgh Intl, RNAV (GPS) Y RWY 28L, Amdt 1A

Pittsburgh, PA, Pittsburgh Intl, RNAV (GPS) Z RWY 28L, Amdt 2B

Pittsburgh, PA, Pittsburgh Intl, RNAV (GPS) Y RWY 32, Amdt 1A

Pittsburgh, PA, Pittsburgh Intl, RNAV (GPS) Z RWY 32, Amdt 2A

Richmond, VA, Richmond International, RNAV (GPS) RWY 34, Orig-A

Roanoke, VA, Roanoke Regional/Woodrum Field, NDB RWY 33, Amdt 10

Roanoke, VA, Roanoke Regional/Woodrum Field, VOR/DME-A, Amdt 5

Roanoke, VA, Roanoke Regional/Woodrum Field, VOR/NDB RWY 33, Orig

Roanoke, VA, Roanoke Regional/Woodrum Field, VOR RWY 33, Amdt 7, CANCELLED

Roanoke, VA, Roanoke Regional/Woodrum Field, LDA RWY 6, Amdt 8

Bennington, VT, William H. Morse State, VOR-A, Amdt 9

Bennington, VT, William H. Morse State, RNAV (GPS) RWY 13, Orig

Bennington, VT, William H. Morse State, GPS RWY 13, Orig-A, CANCELLED

Ellensburg, WA, Bowers Field, RNAV (GPS) RWY 25, Orig

Ellensburg, WA, Bowers Field, RNAV (GPS) RWY 29, Orig

Ellensburg, WA, Bowers Field, VOR-B, Amdt 2

Ellensburg, WA, Bowers Field, VOR/DME-A, Amdt 3

Ellensburg, WA, Bowers Field, GPS RWY 25, Orig-A, CANCELLED

Mosinee, WI, Central Wisconsin, ILS OR LOC RWY 35, Amdt 1

* * * Effective July 8, 2004

De Queen, AR, J. Lynn Helms Sevier County, NDB RWY 8, Amdt 5A

* * * Effective August 5, 2004

Rayville, LA, John H. Hooks Jr Memorial, NDB RWY 36, Amdt 3

[FR Doc. 04-9909 Filed 5-3-04; 8:45 am]

BILLING CODE 4910-13-P